DEPARTMENT OF TRANSPORTATION

Federal Aviation Administration

14 CFR Part 39

[Docket No. FAA-2009-0789; Directorate Identifier 2008-NM-185-AD; Amendment 39-16228; AD 2010-06-04]

RIN 2120-AA64

Airworthiness Directives; Airbus Model A300 B2-1C, B2-203, B2K-3C, B4-103, B4-203, B4-2C Airplanes; Model A310 Series Airplanes; and Model A300 B4-601, B4-603, B4-605R, B4-620, B4-622, and B4-622R Airplanes

AGENCY: Federal Aviation Administration (FAA), Department of Transportation (DOT).

ACTION: Final rule; correction.

SUMMARY: The FAA is correcting a typographical error in an existing airworthiness directive (AD) that was published in the Federal Register on March 11, 2010. The error resulted in an imprecise compliance time in a table. This AD applies to certain Airbus Model A300 B2-1C, B2-203, B2K-3C, B4-103, B4-203, B4-2C airplanes; Model A310 series airplanes; and Model A300 B4-601, B4-603, B4-605R, B4-620, B4-622, and B4-622R airplanes. This AD requires repetitive inspections to detect cracks of the pylon side panels (upper section) at rib 8; and corrective actions if necessary.

DATES: This correction is effective May 4, 2010. The effective date of AD 2010-06-04 remains April 15, 2010.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION: On March 4, 2010, the FAA issued AD 2010-06-04, Amendment 39-16228 (75 FR 11428, March 11, 2010), for certain Airbus Model A300 B2-1C, B2-203, B2K-3C, B4-103, B4-203, B4-2C airplanes; Model A310 series airplanes; and Model A300 B4-601, B4-603, B4-605R, B4-620, B4-622, and B4-622R airplanes. The AD requires repetitive inspections to detect cracks of the pylon side panels (upper section) at rib 8; and corrective actions if necessary.

As published, Table 1 of this AD contained a typographical error in the second row in the second column. The compliance time of “>17,500 total flight ¹ ” has been corrected to read ”>17,500 total flight cycles ¹.” (The word “cycles” was omitted in the AD.)

No other part of the regulatory information has been changed; therefore, the final rule is not republished in the Federal Register.

The effective date of this AD remains April 15, 2010.

§ 39.13 [Corrected]

In the Federal Register of March 11, 2010, on page 11430, in the second row in the second column, Table 1 of AD 2010-06-04 is corrected to read as follows:

* * * * *

Table 1—Compliance Times for Configuration 1
For Model— | That have accumulated— | Whichever occurs later: Inspect before the accumulation of— | Whichever occurs later: Or within— | And repeat the inspection at intervals not to exceed—
A300 B2-1C, B2-203, and B2K-3C airplanes | ≤17,500 total flight cycles ¹ | 5,350 total flight cycles | 2,500 flight cycles ² | 4,300 flight cycles.
A300 B2-1C, B2-203, and B2K-3C airplanes | >17,500 total flight cycles ¹ | 20,000 total flight cycles or 40,000 total flight hours, whichever occurs first | 250 flight cycles ² | 4,300 flight cycles.
A300 B4-103, B4-203, and B4-2C airplanes | ≤18,000 total flight cycles ¹ | 5,350 total flight cycles | 2,000 flight cycles ² | 4,300 flight cycles.
A300 B4-103, B4-203, and B4-2C airplanes | >18,000 total flight cycles ¹ | 20,000 total flight cycles or 40,000 total flight hours, whichever occurs first | 250 flight cycles ² | 4,300 flight cycles.
A300 B4-601, B4-603, B4-605R, B4-620, B4-622, and B4-622R airplanes | ≤18,000 total flight cycles ¹ | 4,200 total flight cycles | 2,000 flight cycles ² | 3,600 flight cycles.
A300 B4-601, B4-603, B4-605R, B4-620, B4-622, and B4-622R airplanes | >18,000 total flight cycles ¹ | 20,000 total flight cycles or 40,000 total flight hours, whichever occurs first | 250 flight cycles ² | 3,600 flight cycles.
A310-200 airplanes with GE CF6-80A3 or Pratt & Whitney engines | ≤18,000 total flight cycles ¹ | 9,700 total flight cycles or 19,400 total flight hours, whichever occurs first | 1,500 flight cycles ² | 6,700 flight cycles or 13,400 flight hours, whichever occurs first.
A310-200 airplanes with GE CF6-80A3 or Pratt & Whitney engines | >18,000 total flight cycles ¹ | 19,500 total flight cycles or 55,500 total flight hours, whichever occurs first | 250 flight cycles ² | 6,700 flight cycles or 13,400 flight hours, whichever occurs first.
A310-200 airplanes with GE CF6-80C2 engines | ≤18,000 total flight cycles ¹ | 7,800 total flight cycles or 15,600 total flight hours, whichever occurs first | 1,500 flight cycles ² | 5,800 flight cycles or 11,600 flight hours, whichever occurs first.
A310-200 airplanes with GE CF6-80C2 engines | >18,000 total flight cycles ¹ | 19,500 total flight cycles or 55,500 total flight hours, whichever occurs first | 250 flight cycles ² | 5,800 flight cycles or 11,600 flight hours, whichever occurs first.
A310-300 SR ³ airplanes with Pratt & Whitney JT9D engines | ≤18,000 total flight cycles ¹ | 8,600 total flight cycles or 24,000 total flight hours, whichever occurs first | 1,500 total flight cycles ² | 6,700 flight cycles or 18,700 flight hours, whichever occurs first.
A310-300 SR ³ airplanes with Pratt & Whitney JT9D engines | >18,000 total flight cycles ¹ | 19,500 total flight cycles or 55,500 total flight hours, whichever occurs first | 250 flight cycles ² | 6,700 flight cycles or 18,700 flight hours, whichever occurs first.
A310-300 SR ³ airplanes with GE engines | ≤18,000 total flight cycles ¹ | 7,000 total flight cycles or 19,600 total flight hours, whichever occurs first | 1,500 flight cycles ² | 5,700 flight cycles or 15,900 flight hours, whichever occurs first.
A310-300 SR ³ airplanes with GE engines | >18,000 total flight cycles ¹ | 19,500 total flight cycles or 55,500 total flight hours, whichever occurs first | 250 flight cycles ² | 5,700 flight cycles or 15,900 flight hours, whichever occurs first.
A310-300 SR ³ airplanes with Pratt & Whitney 4000 engines | ≤18,000 total flight cycles ¹ | 7,000 total flight cycles or 19,600 total flight hours, whichever occurs first | 1,500 flight cycles ² | 5,800 flight cycles or 16,200 flight hours, whichever occurs first.
A310-300 SR ³ airplanes with Pratt & Whitney 4000 engines | >18,000 total flight cycles ¹ | 19,500 total flight cycles or 55,500 total flight hours, whichever occurs first | 250 flight cycles ² | 5,800 flight cycles or 16,200 flight hours, whichever occurs first.
A310-300 LR ⁴ airplanes with Pratt & Whitney JT9D engines | ≤18,000 total flight cycles ¹ | 5,900 total flight cycles or 29,500 total flight hours, whichever occurs first | 1,500 flight cycles ² | 6,000 flight cycles or 30,300 flight hours, whichever occurs first.
A310-300 LR ⁴ airplanes with Pratt & Whitney JT9D engines | >18,000 total flight cycles ¹ | 19,500 total flight cycles or 55,500 total flight hours, whichever occurs first | 250 flight cycles ² | 6,000 flight cycles or 30,300 flight hours, whichever occurs first.
A310-300 LR ⁴ airplanes with GE engines | ≤18,000 total flight cycles ¹ | 4,800 total flight cycles or 24,100 total flight hours, whichever occurs first | 1,500 flight cycles ² | 5,100 flight cycles or 25,500 flight hours, whichever occurs first.
A310-300 LR ⁴ airplanes with GE engines | >18,000 total flight cycles ¹ | 19,500 total flight cycles or 55,500 total flight hours, whichever occurs first | 250 flight cycles ² | 5,100 flight cycles or 25,500 flight hours, whichever occurs first.
A310-300 LR ⁴ airplanes with Pratt & Whitney 4000 engines | ≤18,000 total flight cycles ¹ | 4,800 total flight cycles or 24,000 total flight hours, whichever occurs first | 1,500 flight cycles ² | 5,200 flight cycles or 26,300 flight hours, whichever occurs first.
A310-300 LR ⁴ airplanes with Pratt & Whitney 4000 engines | >18,000 total flight cycles ¹ | 19,500 total flight cycles or 55,500 total flight hours, whichever occurs first | 250 flight cycles ² | 5,200 flight cycles or 26,300 flight hours, whichever occurs first.
¹ As of the effective date of this AD.
² After the effective date of this AD.
³ “SR” applies to airplanes with average flights less than 4 flight hours.
⁴ “LR” refers to airplanes with average flights of 4 or more flight hours.

* * * * *

Issued in Renton, Washington on April 15, 2010.
Ali Bahrami,
Manager, Transport Airplane Directorate, Aircraft Certification Service.

[FR Doc. 2010-9521 Filed 5-3-10; 8:45 am]

BILLING CODE 4910-13-P